DEPARTMENT OF TRANSPORTATION

Federal Aviation Administration

14 CFR Part 39

[Docket No. FAA-2006-24253; Directorate Identifier 2006-CE-23-AD]

RIN 2120-AA64

Airworthiness Directives; GROB-WERKE GMBH & CO KG Model G102 ASTIR CS Sailplanes

AGENCY: Federal Aviation Administration (FAA), Department of Transportation (DOT).

ACTION: Notice of proposed rulemaking (NPRM).

SUMMARY: We propose to supersede Airworthiness Directive (AD) 84-09-05, which applies to certain GROB-WERKE GMBH & CO KG (previously identified as BURKHART-GROB FLUGZEUGBAU INDUSTRIESTRABE) Model G102 ASTIR CS sailplanes. AD 84-09-05 requires you to install a modified spherical locking bolt and nut in the forward horizontal stabilizer connection to the vertical stabilizer and install new locking pins in the aft connecting plate for the horizontal stabilizer. Since we issued AD 84-09-05, fatigue cracks were found in the modified spherical locking bolt. Consequently, this proposed AD would require you to replace the modified spherical locking bolt, the retaining pins (collar bolts), and associated hardware; add a life limit on the spherical locking bolt and the retaining pins; and repetitively inspect the front and rear horizontal stabilizer attachment. This proposed AD results from mandatory continuing airworthiness information (MCAI) issued by the airworthiness authority for Germany. We are proposing this AD to prevent cracks in the spherical locking bolt, which could result in failure of the horizontal stabilizer connection. This failure could lead to loss of control.

DATES: We must receive comments on this proposed AD by June 29, 2006.

ADDRESSES: Use one of the following addresses to comment on this proposed AD:

• DOT Docket Web site: Go to ­ http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

For service information identified in this proposed AD, contact GROB Luft-und Raumfahrt, Lettenbachstrasse 9, D-86874 Tussenhausen-Mattsies, Federal Republic of Germany; telephone: 011 49 8268 998139; fax: 011 49 8268 998200; e-mail: productsupport@grob-aerospace.de.

FOR FURTHER INFORMATION CONTACT: Gregory A. Davison, Aerospace Engineer, ACE-112, Small Airplane Directorate, 901 Locust, Room 301, Kansas City, Missouri 64106; telephone: (816) 329-4130; facsimile: (816) 329-4090.

SUPPLEMENTARY INFORMATION:

Comments Invited

We invite you to send any written relevant data, views, or arguments regarding this proposed AD. Send your comments to an address listed under the ADDRESSES section. Include the docket number, “FAA-2006-24253; Directorate Identifier 2006-CE-23-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact we receive concerning this proposed AD.

Discussion

A broken spherical locking bolt in the horizontal stabilizer attachment on a GROB-WERKE GMBH & CO KG (GROB) (previously identified as BURKHART-GROB FLUGZEUGBAU INDUSTRIESTRABE) Model G102 ASTIR CS sailplane caused us to issue AD 84-09-05, Amendment 39-4849. AD 84-09-05 requires the following for certain Model G102 ASTIR CS sailplanes:

• Installing a modified spherical locking bolt and nut in the forward horizontal stabilizer connection to the vertical stabilizer; and

• Installing new locking pins in the aft connecting plate for the horizontal stabilizer.

The Luftfahrt-Bundesamt (LBA), which is the airworthiness authority for Germany, notified the FAA of the need to supersede AD 84-09-05 to address an unsafe condition that may exist or could develop on GROB Model G102 ASTIR CS sailplanes.

The LBA reports an incident of the modified spherical locking bolt found broken on one of the affected sailplanes after landing.

Investigation revealed that fatigue, resulting from alternating stress on the stabilizer during unsymmetrical loading, caused the spherical locking bolt to crack.

This condition, if not corrected, could result in failure of the horizontal stabilizer connection. This failure could lead to loss of control.

Relevant Service Information

We have reviewed GROB Service Bulletin MSB306-38/1, dated November 28, 2005, and GROB Service Bulletin MSB306-38, dated February 12, 2004. These service bulletins specify doing the following:

• Removing and replacing the spherical locking bolt with a new bolt, part number (P/N) 102-3500.21;

• Removing and replacing all retaining pins (collar bolts) on the T-plate with new retaining pins, P/N 102-2142.46;

• Incorporating Revision 9 into the Maintenance Manual (which may be downloaded at http://www.Grob-Aerospace.de/);

• Adding a life limit to the new spherical locking bolt and retaining pins; and

• Inspecting (repetitively) the front and rear horizontal stabilizer attachment assembly after the initial replacements.

Foreign Airworthiness Authority Information

The LBA classified this service bulletin as mandatory and issued German AD Number D-2004-168, dated March 23, 2004, to ensure the continued airworthiness of these sailplanes in Germany.

These GROB Model G102 ASTIR CS sailplanes are manufactured in Germany and are type-certificated for operation in the United States under the provisions of section 21.29 of the Federal Aviation Regulations (14 CFR 21.29) and the applicable bilateral airworthiness agreement.

Under this bilateral airworthiness agreement, the LBA has kept us informed of the situation described above.

FAA's Determination and Requirements of the Proposed AD

We are proposing this AD because we have examined the LBA's findings, evaluated all information and determined the unsafe condition described previously is likely to exist or develop on other products of the same type design that are certificated for operation in the United States.

This proposed AD would supersede AD 84-09-05 with a new AD that would require you to do the following:

• Remove the existing spherical locking bolt, nut, retaining pins (collar bolts), self-locking nut, and the lock washer; and replace with a new spherical locking bolt, P/N 102-3500.21, that has revision letter “b” permanently marked on the bottom of the bolt, a new nut, P/N 102-3510.21, new retaining pins (collar bolts), P/N 102-2142.46, a new self-locking nut, P/N LN9348-M8, and a new lock washer, P/N DIN 6797-10,5PHR.

• Add a life limit on the new spherical locking bolt and the retaining pins; and

• Inspect (repetitively) the front and rear horizontal stabilizer attachment assembly after the initial replacements.

Differences Between This Proposed AD and the Service Information

The service information specifies using a 20X magnifying glass for doing the inspections. This proposed AD specifies using a dye penetrant method and a 10X magnifying glass for doing the inspections. This difference is because 20X magnifiers are not readily available in the field.

The requirements of this proposed AD, if adopted as a final rule, would take precedence over the provisions in the service information.

Costs of Compliance

We estimate that this proposed AD would affect 56 sailplanes in the U.S. registry.

We estimate the following costs to do the proposed replacements:

Labor cost | Parts cost | Total cost for each sailplane | Total cost on U.S. operators
2 workhours × $80 per hour = $160 | $253 | $413 | $23,128

We estimate the following costs to do each proposed inspection:

Labor cost | Parts cost | Total cost for each sailplane | Total cost on U.S. operators
2 workhours × $80 per hour = $160 | Not Applicable | $160 | $8,960

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 84-09-05, Amendment 39-4849, and adding the following new AD:

GROB-WERKE GMBH & CO KG (previously identified as BURKHART-GROB FLUGZEUGBAU INDUSTRIESTRABE): Docket No. FAA-2006-24253; Directorate Identifier 2006-CE-23-AD.

Comments Due Date

(a) We must receive comments on this airworthiness directive (AD) action by June 29, 2006.

Affected ADs

(b) This AD supersedes AD 84-09-05, Amendment 39-4849.

Applicability

(c) This AD affects Model G102 ASTIR CS sailplanes, serial numbers 1001 through 1536, that are certificated in any category.

Unsafe Condition

(d) This AD results from mandatory continuing airworthiness information (MCAI) issued by the airworthiness authority for Germany. We are issuing this AD to prevent cracks in the spherical locking bolt, which could result in failure of the horizontal stabilizer connection. This failure could lead to loss of control.

Compliance

(e) To address this problem, you must do the following:

Actions | Compliance | Procedures
(1) Remove and replace as follows: (i) Remove the existing retaining pins (collar bolts) and the self-locking nut and replace with new retaining pins, part numbers (P/N) 102-2142.46, and self-locking nut, P/N LN9348-M8 (or FAA-approved equivalent part numbers), on the T-plate; (ii) Remove the existing spherical locking bolt and replace with a new spherical locking bolt, P/N 102-3500.21, that has revision letter “b” permanently marked on the bottom of the bolt (or FAA-approved equivalent part number ). Return all replaced spherical locking bolts to Grob Systems, Inc., Aircraft Division, 1070 Navajo Drive, Bluffton, Ohio 45817; | Within the next 90 days after the effective date of this AD, unless already done. After doing the replacements, the spherical locking bolt and retaining pins have a life limit of 10 years and must be replaced at that time | As specified in GROB Service Bulletin MSB306-38/1, dated November 28, 2005, following the Accomplishment Instructions in GROB Service Bulletin MSB306-38, dated February 12, 2004, and the Annual Inspection procedures on pages 7 and 8 of the Astir CS Maintenance Manual, Rev. 9, dated Nov. 2005.
(iii) Remove the existing nut and replace with a new nut, P/N 102-3510.21 (or FAA-approved equivalent part number); and
(iv) Remove the existing lock washer and replace with a new lock washer, P/N DIN 6796-10,5PHR (or FAA-approved equivalent part number)
(2) Repetitively inspect the front and rear horizontal stabilizer attachment assembly using a dye-penetrant method along with a minimum 10X magnifying glass for excessive movement, cracks, and/or damage in the spherical locking bolt. This inspection method takes precedence over the procedures outlined in GROB Service Bulletin MSB306-38, dated February 12, 2004 | Initially inspect within the next 100 hours time-in-service (TIS) or at the next annual inspection after the replacement required in paragraph (e)(1) of this AD, whichever occurs first. Repetitively inspect thereafter at 12-month intervals or at intervals not to exceed 100 hours TIS, whichever occurs first | As specified in GROB Service Bulletin MSB306-38/1, dated November 28, 2005, following the Accomplishment Instructions in GROB Service Bulletin MSB306-38, dated February 12, 2004, and the Annual Inspection procedures on pages 7 and 8 of the Astir CS Maintenance Manual, Rev. 9, dated Nov. 2005.
(3) If, during any inspection required in paragraph (e)(2) of this AD, you find excessive movement: (i) In the front horizontal stabilizer attachment, you must replace the spherical locking bolt with a new part. (ii) In the rear horizontal stabilizer attachment, you must replace the retaining pins with new parts. (iii) In the front and rear horizontal stabilizer attachment after doing the replacement(s) required in paragraph (e)(3)(i) and (e)(3)(ii) of this AD, you must replace the bearing in the stabilizer spar web. | Before further flight after each inspection required in paragraph (e)(2) of this AD. After each replacement, the spherical locking bolt and the retaining pins have a life limit of 10 years and must be replaced at that time | As specified in GROB Service Bulletin MSB306-38/1, dated November 28, 2005, following the Accomplishment Instructions in GROB Service Bulletin MSB306-38, dated February 12, 2004, and the Annual Inspection procedures on pages 7 and 8 of the Astir CS Maintenance Manual, Rev. 9, dated Nov. 2005.
(4) If, during any inspection required in paragraph (e)(2) of this AD, you do not find excessive movement in the front and rear horizontal stabilizer attachment: (i) Inspect the spherical locking bolt for cracks and damage using a dye-penetrant method along with a minimum 10X magnifying glass. (ii) If you find cracks or damage on the spherical locking bolt, during the inspection required in paragraph (e)(4)(i) of this AD, you must replace the bolt with a new bolt. | Before further flight after each inspection required in paragraph (e)(2) of this AD. After each replacement, the spherical locking bolt and the retaining pins have a life limit of 10 year and must be replaced at that time | As specified in GROB Service Bulletin MSB306-38/1, dated November 28, 2005, following the Accomplishment Instructions in GROB Service Bulletin MSB306-38, dated February 12, 2004, and the Annual Inspection procedures on pages 7 and 8 of the Astir CS Maintenance Manual, Rev. 9, dated Nov. 2005.
(5) Do not install any spherical locking bolt, P/N 102-3500.21 (or FAA-approved equivalent part number), that does not have revision letter “b” permanently marked on the bottom of the bolt | As of the effective date of this AD | Not applicable.
(6) 14 CFR 21.303 allows for replacement parts through parts manufacturer approval (PMA). The phrase “or FAA-approved equivalent part number” in this AD is intended to signify those parts that are PMA parts approved through identicality to the design of the part under the type certificate and replacement parts to correct the unsafe condition under PMA (other than identicality). If parts are installed that are identical to the unsafe parts, then the corrective actions of the AD affect these parts also. In addition, equivalent replacement parts to correct the unsafe condition under PMA (other than identicality) may also be installed provided they meet current airworthiness standards, which include those actions cited in this AD | Not Applicable | Not Applicable.

Note: During ground handling, it has been noted that a tendency exists for the ground crew to move these gliders by using the horizontal stabilizer as a lifting point. This practice may facilitate damage to the stabilizer assembly and should be avoided. See Caution note in GROB Service Bulletin MSB306-38, dated February 12, 2004.

Alternative Methods of Compliance (AMOCs)

(f) The Manager, Standards Office, Small Airplane Directorate, FAA, ATTN: Gregory A. Davison, Aerospace Engineer, ACE-112, Small Airplane Directorate, 901 Locust, Room 301, Kansas City, Missouri 64106; telephone: (816) 329-4130; facsimile: (816) 329-4090, has the authority to approve AMOCs for this AD, if requested using the procedures found in 14 CFR 39.19.

(g) AMOCs approved for AD 84-09-05 are not approved for this AD.

Related Information

(h) German AD Number D-2004-168, dated March 23, 2004, also addresses the subject of this AD. To get copies of the documents referenced in this AD, contact GROB Luft-und Raumfahrt, Lettenbachstrasse 9, D-86874 Tussenhausen-Mattsies, Federal Republic of Germany; telephone: 011 49 8268 998139; fax: 011 49 8268 998200; e-mail: productsupport@grob-aerospace.de. To view the AD docket, go to the Docket Management Facility; U.S. Department of Transportation, 400 Seventh Street, SW., Nassif Building, Room PL-401, Washington, DC, or on the Internet at http://dms.dot.gov. The docket number is Docket No. FAA-2006-24253; Directorate Identifier 2006-CE-23-AD.

Issued in Kansas City, Missouri, on May 30, 2006.
David R. Showers,
Acting Manager, Small Airplane Directorate, Aircraft Certification Service.

[FR Doc. E6-8712 Filed 6-5-06; 8:45 am]

BILLING CODE 4910-13-P